SECURITIES AND EXCHANGE COMMISSION

17 CFR Chapter II

[Release Nos. 33-11252; 34-98699; IA-6454; IC-35030; File No. S7-17-23]

List of Rules To Be Reviewed Pursuant to the Regulatory Flexibility Act

AGENCY: Securities and Exchange Commission.

ACTION: Publication of list of rules scheduled for review.

SUMMARY: The Regulatory Flexibility Act (“RFA”) requires an agency to publish in the Federal Register, each year, a list of rules that are to be reviewed in accordance with the RFA during the succeeding 12 months. Based upon its review of rules potentially subject to review under the RFA during the succeeding 12 months, the Securities and Exchange Commission (“Commission”) has determined that no such rules are required to be reviewed. Accordingly, the agency is not publishing a list of rules to be reviewed pursuant to the RFA during the succeeding 12 months.

DATES: October 13, 2023.

FOR FURTHER INFORMATION CONTACT: Sandra Sojka, General Attorney, Office of the General Counsel, 202-551-4928.

SUPPLEMENTARY INFORMATION: The Regulatory Flexibility Act (“RFA”), codified at 5 U.S.C. 601 through 612, requires an agency to review its rules that have a significant economic impact upon a substantial number of small entities within 10 years of the publication of such rules as final rules. 5 U.S.C. 610(a). The purpose of the review is “to determine whether such rules should be continued without change, or should be amended or rescinded . . . to minimize any significant economic impact of the rules upon a substantial number of such small entities.” 5 U.S.C. 610(a).

The RFA further requires an agency to publish in the Federal Register, each year, a list of the rules that are to be reviewed in accordance with the RFA during the succeeding 12 months. 5 U.S.C. 610(c). In determining which rules to include in each year's rule review list, the Commission analyzes rules adopted in the ninth calendar year prior to the year the rule review list is published, and those rules included in the rule review list are reviewed in accordance with the RFA during the calendar year following the year the rule review list is published. The Commission includes in its rule review lists any rules that may have a significant economic impact on a substantial number of small entities, but excludes rules that previously have been reviewed, rules that have been substantially changed since adoption, rules that are minor amendments to previously adopted rules, and rules that are ministerial, procedural, or technical in nature. Based upon an analysis of the rules adopted by the Commission in 2014, the Commission has determined that no such rules are required to be reviewed pursuant to the RFA during the succeeding 12 months. Accordingly, the agency is publishing a list that reflects that there are no rules to be reviewed pursuant to the RFA during the succeeding 12 months.

By the Commission.
Dated: October 6, 2023.
J. Lynn Taylor,
Assistant Secretary.

[FR Doc. 2023-22605 Filed 10-12-23; 8:45 am]

BILLING CODE 8011-01-P